DEPARTMENT OF THE INTERIOR

Fish and Wildlife Service

[FWS-R1-ES-2015-N058; FXES11120100000-156-FF01E00000]

Draft Candidate Conservation Agreement With Assurances, Receipt of Application for an Enhancement of Survival Permit for the Greater Sage-Grouse on Oregon Department of State Lands, and Draft Environmental Assessment; Reopening of Comment Period

AGENCY: Fish and Wildlife Service, Interior.

ACTION: Notice of availability; reopening of comment period.

SUMMARY: We, the U.S. Fish and Wildlife Service (Service), are reopening the comment period for an application from the Oregon Department of State Lands (DSL) for an enhancement of survival (EOS) permit under the Endangered Species Act of 1973, as amended (ESA). The documents available for review are a draft candidate conservation agreement with assurances (CCAA) for the greater sage-grouse, addressing rangeland management activities on Oregon State Trust Lands administered by DSL, and a draft environmental assessment (EA) pursuant to the National Environmental Policy Act (NEPA). If you have previously submitted comments, please do not resubmit them because we have already incorporated them in the public record and will fully consider them in our final decision.

DATES: To ensure consideration, written comments must be received from interested parties no later than May 11, 2015.

ADDRESSES: To request further information or submit written comments, please use one of the following methods, and note that your information request or comments are in reference to the DSL CCAA.

• Internet: Documents may be viewed on the Internet at http://www.fws.gov/oregonfwo/.

• Email: Jeff_Everett@fws.gov. Include “DSL CCAA” in the subject line of the message.

• U.S. Mail: U.S. Fish and Wildlife Service, Oregon Fish and Wildlife Office, 2600 SE 98th Ave., Suite 100, Portland, OR 97266.

• Fax: 503-231-6195, Attn: DSL CCAA.

• In-Person Viewing or Pickup: Documents will be available for public inspection by appointment during normal business hours at the U.S. Fish and Wildlife Service, Oregon Fish and Wildlife Office, 2600 SE 98th Ave., Suite 100, Portland, OR.

FOR FURTHER INFORMATION CONTACT: Jeff Everett or Jennifer Siani, U.S. Fish and Wildlife Service, Oregon Fish and Wildlife Office (see ADDRESSES), telephone: 503-231-6179. If you use a telecommunications device for the deaf, please call the Federal Information Relay Service at 800-877-8339.

SUPPLEMENTARY INFORMATION: On February 23, 2015, we published a Federal Register notice (80 FR 9475) announcing the availability of the draft CCAA and EA for a 30-day review and comment period. We are providing interested parties more time to review these documents by reopening the comment period for another 30 days. We are doing this because technical difficulties delayed internet posting of the draft CCAA and EA during the first 30-day comment period.

For background and more information on the draft CCAA and EA, see our February 23, 2015, notice (80 FR 9475). For information on where to view the documents and how to submit comments, please see the ADDRESSES section above.

Public Availability of Comments

All comments and materials we receive become part of the public record associated with this action. Before including your address, phone number, email address, or other personally identifiable information (PII) in your comments, you should be aware that your entire comment—including your PII—may be made publicly available at any time. While you can ask us in your comment to withhold your PII from public review, we cannot guarantee that we will be able to do so. Comments and materials we receive, as well as supporting documentation we use in preparing the EA, will be available for public inspection by appointment, during normal business hours, at our Oregon Fish and Wildlife Office (see ADDRESSES).

Authority

We provide this notice in accordance with the requirements of section 10 of the ESA (16 U.S.C. 1531 et seq.), and NEPA (42 U.S.C. 4321 et seq.) and their implementing regulations (50 CFR 17.22 and 40 CFR 1506.6, respectively).

Dated: March 27, 2015.
Richard Hannan,
Deputy Regional Director, Pacific Region, U.S. Fish and Wildlife Service, Portland, Oregon.

[FR Doc. 2015-08250 Filed 4-9-15; 8:45 am]

BILLING CODE 4310-55-P